DEPARTMENT OF DEFENSE

Office of the Secretary

[Docket ID: DoD-2021-OS-0092]

Submission for OMB Review; Comment Request

AGENCY: Defense Counterintelligence and Security Agency, Department of Defense (DoD).

ACTION: 30-Day information collection notice.

SUMMARY: The Department of Defense has submitted to OMB for clearance the following proposal for collection of information under the provisions of the Paperwork Reduction Act.

DATES: Consideration will be given to all comments received by January 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Personnel Security System Access Request Form; DD Form 2962, Volume 2; OMB Control Number 0704-0542.

Type of Request: Revision.

Number of Respondents: 22,225.

Responses per Respondent: 1.

Annual Responses: 22,225.

Average Burden per Response: 10 minutes.

Annual Burden Hours: 3,704.17.

Needs and Uses: The DD 2962, Volume 2, Personnel Security System Access Request (PSSAR) Form is used to collect the necessary information to vet and establish accounts for persons wishing to become users and gain access to personnel systems across the DoD, including National Background Investigation Services, the Defense Information System for Security, the Defense Central Index of Investigations, and the Secure Web Fingerprint Transmission. These systems facilitate the initiation, investigation, and adjudication of information relevant to DoD security clearances and employment suitability determinations for active duty military, civilian employees and contractors seeking such credentials. These personnel security systems are the authoritative source for clearance information resulting in accesses determinations to sensitive/classified information and facilities. The PSSAR Form is solely used for the purpose of requesting an account for these systems, and this information collection request is not intended to cover any information collected within those systems. Each respondent is required to have a completed form on file at all times to remain compliant with the account request procedures for all systems.

Affected Public: Individuals or households.

Frequency: On occasion.

Respondent's Obligation: Required to Obtain or Retain Benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 27, 2021.
Kayyonne T. Marston,
Alternate OSD Federal Register, Liaison Officer, Department of Defense.

[FR Doc. 2021-28365 Filed 12-29-21; 8:45 am]

BILLING CODE 5001-06-P